DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 93-463), the Northeast Oregon Forests Resource Advisory Committee (RAC) will meet on June 1-2, 2006 in John Day, Oregon. The purpose of the meeting is to discuss the selection of Title II projects under Public Law 106-393, H.4. 2389, the Secure Rural Schools and Community Self-Determination Act of 2000, also called the “Payment to States” Act.

DATES: The meeting will be held on June 1, 2006 from 8 a.m. to 5 p.m. and if needed June 2, 2006 from 8 a.m. until 3 p.m.

ADDRESSES: The June 1, 2006 meeting will be held at the Malheur National Forest Supervisor's Office, Cedar Grove conference room, located at 431 Patterson Bridge Road, John Day, Oregon. The June 2, 2006 portion of the meeting will be initiated only if business cannot be concluded on June 1, 2006.

FOR FURTHER INFORMATION CONTACT: Jennifer Harris, Designated Federal Official, USDA, Malheur National Forest, P.O. Box 909, John Day, Oregon 97845. Phone: (541) 575-3000.

SUPPLEMENTARY INFORMATION: At the June 1 meeting the RAC will review and recommend FY 2007 Title II project proposals and receive an update of how previous fiscal year projects are progressing. A public comment period will be provided at 12:45 p.m. and individuals will have the opportunity to address the committee at that time. On June 2 the committee would convene only if business had not been completed the day before.

Jennifer L. Harris,
Designated Federal Official.

[FR Doc. 06-4254 Filed 5-4-06; 8:45 am]

BILLING CODE 3410-DK-M